NATIONAL TRANSPORTATION SAFETY BOARD

SES Performance Review Board

AGENCY: National Transportation Safety Board.

ACTION: Notice.

SUMMARY: Notice is hereby given of the appointment of members of the National Transportation Safety Board, Performance Review Board (PRB).

FOR FURTHER INFORMATION CONTACT: Emily T. Carroll, Chief, Human Resources Division, Office of Administration, National Transportation Safety Board, 490 L'Enfant Plaza SW, Washington, DC 20594-0001, (202) 314-6233.

SUPPLEMENTARY INFORMATION: Section 4314(c)(1) through (5) of Title 5, United States Code requires each agency to establish, in accordance with regulations prescribed by the Office of Personnel Management, one or more SES Performance Review Boards. The board reviews and evaluates the initial appraisal of a senior executive's performance by the supervisor and considers recommendations to the appointing authority regarding the performance of the senior executive.

The following have been designated as members of the 2018 Performance Review Board of the National Transportation Safety Board (NTSB):

The Honorable Bruce Landsberg, Vice Chairman, National Transportation Safety Board, PRB Chair.

The Honorable Earl F. Weener, Member, National Transportation Safety Board.

Mr. Edward Benthall, Chief Financial Officer, National Transportation Safety Board.

Mr. Jerold Gidner, Principal Deputy Special Trustee, Office of the Special Trustee for American Indians, Department of Interior.

Ms. Katherine Herrera, Deputy Technical Director, Defense Nuclear Facilities Safety Board.

Mr. Robert Huttenlocker, Assistant Inspector General for Management, Office of Inspector General, U.S. Department of Agriculture (alternate).

Ms. Susan A. Kantrowitz, Director, Office of Administration, National Transportation Safety Board(alternate).

Dated: November 5, 2018.
Candi R. Bing,
Federal Register Liaison.

[FR Doc. 2018-24460 Filed 11-7-18; 8:45 am]

BILLING CODE P